DEPARTMENT OF HOMELAND SECURITY

Coast Guard

[CGD05-04-201]

Notice, Request for Comments; Letter of Recommendation, LNG Crown Landing LLC, Logan Township, Gloucester County, NJ—New Meeting Location

AGENCY: Coast Guard, DHS.

ACTION: Notice of public meeting; request for comments; new meeting location.

SUMMARY: The location of the public meeting scheduled for Tuesday, January 11, 2005, announced in a notice we published in the Federal Register on December 3, 2004 (69 FR 70271), has been changed. The new meeting location is: The Sheraton Suites Philadelphia Airport, 4101 B Island Ave, Philadelphia, Pennsylvania, approximately 1.5 miles from the original site. Information concerning this change along with directions will be provided at the original meeting location, and the meeting will begin at 3:30 p.m. and conclude at 7:30 p.m., to allow attendees who have not received this notice time to travel to the new location.

DATES: The public meeting will be held January 11, 2005, from 3:30 p.m. to 7:30 p.m.

ADDRESSES: The public meeting will be held at the Sheraton Suites Philadelphia Airport, 4101 B Island Ave, Philadelphia, Pennsylvania.

FOR FURTHER INFORMATION CONTACT: If you have questions on this notice, contact Lieutenant Commander Timothy Meyers at Coast Guard Marine Safety Office/Group Philadelphia, PA, by one of the methods listed below:

(1) Phone at (215) 271-4860.

(2) E-mail at TMEYERS@msogruphila.uscg.mil.

(3) Fax to (215) 271-4903.

Dated: January 5, 2005.
Jonathan D. Sarubbi,
Captain, U.S. Coast Guard, Captain of the Port Philadelphia.

[FR Doc. 05-436 Filed 1-5-05; 1:36 pm]

BILLING CODE 4910-15-P